DEPARTMENT OF STATE

[Public Notice 4237]

Culturally Significant Objects Imported for Exhibition

Determinations: “Frida Kahlo, Diego Rivera, and Twentieth-Century Mexican Art: The Jacques and Natasha Gelman Collection”

AGENCY: Department of State.

ACTION: Correction.

SUMMARY: This is a correction to previously-published Public Notice 3972 regarding culturally significant objects imported for exhibition in the show entitled “Frida Kahlo, Diego Rivera, and Twentieth-Century Mexican Art: The Jacques and Natasha Gelman Collection.” This is to correct Federal Register Doc. 02-8716, 67 FR 17478-02 (April 10, 2002) by adding the following language after the words “to on or about January 5, 2003,”: “the Mexican Fine Arts Center Museum, Chicago, Illinois, from on or about January 20, 2003, to on or about April 27, 2003, the Nevada Museum of Art, Reno, Nevada, from on or about May 18, 2003, to on or about September 21, 2003,”

FOR FURTHER INFORMATION CONTACT: For further information, including a list of exhibit objects, contact Paul W. Manning, Attorney-Adviser, Office of the Legal Adviser, (202) 619-5997, and the address is United States Department of State, SA-44, Room 700, 301 4th Street, SW., Washington, DC 20547-0001.

Dated: December 18, 2002
Patricia S. Harrison,
Assistant Secretary for Educational and Cultural Affairs, Department of State.

[FR Doc. 02-32425 Filed 12-23-02; 8:45 am]

BILLING CODE 4710-08-P